NUCLEAR REGULATORY COMMISSION

[Docket No. 50-255-LA-5;ASLBP No. 25-990-02-LA-BD01]

Holtec Palisades, LLC; Establishment of Atomic Safety and Licensing Board

Pursuant to the Commission's regulations, see, e.g., 10 CFR 2.104, 2.105, 2.300, 2.309, 2.313, 2.318, 2.321, notice is hereby given that an Atomic Safety and Licensing Board (Board) is being established to preside over the following proceeding:

Holtec Palisades, LLC (Palisades Nuclear Plant)

Holtec Palisades, LLC seeks an amendment to Renewed Facility Operating License No. DPR-20 to modify certain license conditions associated with the Palisades Nuclear Plant fire protection program. In response to a notice filed in the Federal Register announcing the opportunity to request a hearing, see 90 FR 34,019 (July 18, 2025), Alan Blind filed a hearing request on July 30, 2025.

The Board is comprised of the following Administrative Judges:

Jeremy A. Mercer, Chair, Atomic Safety and Licensing Board Panel, U.S. Nuclear Regulatory Commission, Washington, DC 20555-0001

Dr. Gary S. Arnold, Atomic Safety and Licensing Board Panel, U.S. Nuclear Regulatory Commission, Washington, DC 20555-0001

Dr. Arielle J. Miller, Atomic Safety and Licensing Board Panel, U.S. Nuclear Regulatory Commission, Washington, DC 20555-0001

All correspondence, documents, and other materials shall be filed in accordance with the NRC E-Filing rule. See 10 CFR 2.302.

Dated: August 5, 2025.
Rockville, Maryland.
Emily I. Krause,
Associate Chief Administrative Judge, Atomic Safety and Licensing Board Panel.

[FR Doc. 2025-15043 Filed 8-7-25; 8:45 am]

BILLING CODE 7590-01-P